NATIONAL ARCHIVES AND RECORDS ADMINISTRATION

[NARA-2014-032]

Records Schedules; Availability and Request for Comments

AGENCY: National Archives and Records Administration (NARA)

ACTION: Notice of availability of proposed records schedules; request for comments

SUMMARY: The National Archives and Records Administration (NARA) publishes notices at least once monthly of certain Federal agency requests for records disposition authority (records schedules). Once approved by NARA, records schedules provide mandatory instructions on what happens to records when no longer needed for current Government business. They authorize preservation of records of continuing value in the National Archives of the United States and destruction, after a specified period, of records lacking administrative, legal, research, or other value. NARA publishes notices for records schedules in which agencies propose to destroy records not previously authorized for disposal or reduce the retention period of records already authorized for disposal. NARA invites public comments on such records schedules, as required by 44 U.S.C. 3303a(a).

DATES: Requests for copies must be received in writing on or before June 30, 2014. Once NARA completes the appraisal of the records, NARA will send a copy of the schedule. NARA staff usually prepare appraisal memoranda that contain additional information concerning the records covered by a proposed schedule. These, too, may be requested and will be provided once the appraisal is completed. Requesters will be given 30 days to submit comments.

ADDRESSES: You may request a copy of any records schedule identified in this notice by contacting Records Management Services (ACNR) using one of the following means:

Mail: NARA (ACNR), 8601 Adelphi Road, College Park, MD 20740-6001.

Email: request.schedule@nara.gov.

FAX: 301-837-3698.

Requesters must cite the control number, which appears in parentheses after the name of the agency which submitted the schedule, and must provide a mailing address. Those who desire appraisal reports should so indicate in their request.

FOR FURTHER INFORMATION CONTACT: Margaret Hawkins, Director, Records Management Services (ACNR), National Archives and Records Administration, 8601 Adelphi Road, College Park, MD 20740-6001. Telephone: 301-837-1799. Email: request.schedule@nara.gov.

SUPPLEMENTARY INFORMATION: Each year, Federal agencies create billions of records on paper, film, magnetic tape, and other media. To control this accumulation, agency records managers prepare schedules proposing retention periods for records and submit these schedules for NARA's approval. These schedules provide for the timely transfer into the National Archives of historically valuable records and authorize the disposal of all other records after the agency no longer needs them to conduct its business. Some schedules are comprehensive and cover all the records of an agency or one of its major subdivisions. Most schedules, however, cover records of only one office or program or a few series of records. Many of these update previously approved schedules, and some include records proposed as permanent.

The schedules listed in this notice are media-neutral unless specified otherwise. An item in a schedule is media-neutral when the disposition instructions may be applied to records regardless of the medium in which the records are created and maintained. Items included in schedules submitted to NARA on or after December 17, 2007, are media-neutral unless the item is limited to a specific medium. (See 36 CFR 1225.12(e).)

No Federal records are authorized for destruction without the approval of the Archivist of the United States. This approval is granted only after a thorough consideration of their administrative use by the agency of origin, the rights of the Government and of private persons directly affected by the Government's activities, and whether or not they have historical or other value.

Besides identifying the Federal agencies and any subdivisions requesting disposition authority, this public notice lists the organizational unit(s) accumulating the records or indicates agency-wide applicability in the case of schedules that cover records that may be accumulated throughout an agency. This notice provides the control number assigned to each schedule, the total number of schedule items, and the number of temporary items (the records proposed for destruction). It also includes a brief description of the temporary records. The records schedule itself contains a full description of the records at the file unit level as well as their disposition. If NARA staff has prepared an appraisal memorandum for the schedule, it too includes information about the records. Further information about the disposition process is available on request.

Schedules Pending

1. Department of Agriculture, Food and Nutrition Service (DAA-0462-2013-0001, 1 item, 1 temporary item). Master files of an electronic information system used to track, manage, and forecast activity on family nutrition programs.

2. Department of the Interior, Bureau of Ocean Energy Management (N1-589-12-5, 15 items, 12 temporary items). Records documenting regulatory oversight and stewardship activities, including operating plans for minerals exploration, development, and production; and well permits, environmental assessments, and technical assistance activities. Proposed for permanent retention are significant oil spill risk analyses, environmental studies, and monitoring records.

3. Department of the Interior, National Park Service (DAA-0515-2013-0001, 6 items, 2 temporary items). Administrative and non-significant records of the Historic American Building Survey, Historic American Engineering Record, and Historic American Landscape Survey. Proposed for permanent retention are high-level subject files, project case files and supporting records, and publications.

4. Department of Transportation, National Highway Traffic Safety Administration (N1-416-11-9, 1 item, 1 temporary item). Master files of an electronic information system used to manage projects.

5. Environmental Protection Agency, Agency-wide (DAA-0412-2013-0007, 3 items, 2 temporary items). Public affairs records, including working papers, publications not depicting environmental activities, and routine and administrative records. Proposed for permanent retention are historically significant public affairs records, including news releases, publications and promotional items, records of public hearings, and environmental training materials.

6. Library of Congress, Agency-wide (DAA-0297-2014-0007, 20 items, 20 temporary items). Records relating to facilities and safety, including facilities management requisition files, work authorizations, environmental logs and assessments, and program files related to safety management, fire protection, and industrial hygiene.

7. National Archives and Records Administration, Research Services (N2-84-14-1, 1 item, 1 temporary item). Records of Foreign Service Posts of the Department of State including copies of diplomatic serials and copies of property inventories. These records were accessioned to the National Archives but lack sufficient historical value to warrant continued preservation.

8. Office of Personnel Management, Executive Secretariat (DAA-0478-2014-0001, 2 items, 2 temporary items). Records of the Ombudsman Office including general correspondence and internal inquiries.

9. Office of Personnel Management, Planning and Policy Analysis Division (DAA-0478-2014-0005, 2 items, 2 temporary items). Master files and outputs of an electronic information system containing medical claims information, enrollment information, and provider information for Federal employee health insurance programs.

10. Office of Personnel Management, Employee Services (DAA-0478-2014-0006, 3 items, 3 temporary items). Master files of an electronic information system containing job announcements, applicant data, and Web site content.

11. Office of Personnel Management, Federal Investigative Services (DAA-0478-2014-0007, 1 item, 1 temporary item). Monthly progress reports on completion of security investigations.

Dated: May 22, 2014.
Paul M. Wester, Jr.
Chief Records Officer for the U.S. Government.

[FR Doc. 2014-12560 Filed 5-29-14; 8:45 am]

BILLING CODE 7515-01-P